DEPARTMENT OF ENERGY

Notice of 229 Boundary Revision for the Thomas Jefferson National Accelerator Facility (Also Known as Jefferson Lab)

AGENCY: Office of Science, Department of Energy (DOE).

ACTION: Notice of 229 Boundary Revision for the Thomas Jefferson National Accelerator Facility (also known as Jefferson Lab).

SUMMARY: Notice is hereby given that the U.S. Department of Energy, pursuant to the Atomic Energy Act of 1954, prohibits the unauthorized entry and the unauthorized introduction of weapons or dangerous materials, as provided in, into or upon the following described facilities and property of the Thomas Jefferson National Accelerator Facility (TJNAF) of the United States Department of Energy.

DATES: This action is effective on December 3, 2024.

FOR FURTHER INFORMATION CONTACT: Ms. Marla J. Larsen-Williams, Real Estate Contracting Officer, 9800 S Cass Avenue, Building 201, Lemont, IL 60439, Email: marla.larsen-williams@science.doe.gov; Telephone: (865) 227-3332.

SUPPLEMENTARY INFORMATION: This security boundary is designated pursuant to section 229 of the Atomic Energy Act of 1954 as amended, and as implemented by DOE's regulations regarding Trespassing on Department of Energy Property which was published in the Federal Register on August 26, 1963 (28 FR 8400). This revised boundary supplements the entry previously contained in the Federal Register notice published on March 1, 2016, at 81 FR 10610 for the Thomas Jefferson National Accelerator Facility (TJNAF) of the United States Department of Energy.

The following supplement is made:

The U.S. Department of Energy installation known as the Thomas Jefferson National Accelerator Facility is located in the Second Civil District of Newport News, Virginia, within the corporate limits of the City of Newport News. The U.S. Department of Energy acquired the property known as the Applied Research Center (ARC), property and associated facilities, located in the Second Civil District of Newport News, Virginia, within the corporate limits of the City of Newport News. The ARC property consists of 9.298 acres located at 12050 Jefferson Avenue, bounded by the west by Jefferson Avenue, by the south approximately 350 feet south of Hofstadter Road, by the north by Tech Center Parkway, by the east by Rutherford Road (as extended northerly).

The entire Thomas Jefferson National Accelerator Facility 229 Boundary, consisting of approximately 179 acres, is indicated by a combination of signage at entrances and along the perimeter, and chain link fencing, and other physical features which surround the facility.

Signing Authority: This document of the Department of Energy was signed on November 20, 2024, by Marla J. Larsen-Williams, Real Estate Contracting Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 27, 2024.
Treena V. Garrett,
Federal Register Liaison Officer, U.S. Department of Energy.

[FR Doc. 2024-28309 Filed 12-2-24; 8:45 am]

BILLING CODE 6450-01-P